DEPARTMENT OF LABOR

Bureau of Labor Statistics

Agency Information Collection Activities; Submission for OMB Review; National Compensation Survey

ACTION: Notice of availability; request for comments.

SUMMARY: The Bureau of Labor Statistics (BLS) is submitting this information collection request (ICR) to the Office of Management and Budget (OMB) for review and approval in accordance with the Paperwork Reduction Act of 1995 (PRA). Public comments on the ICR are invited.

DATES: The OMB will consider all written comments that the agency receives on or before March 5, 2026.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Nora Kincaid, BLS clearance officer, at 202-691-7628 (this is not a toll free number), or by email at BLS_PRA_PUBLIC@dol.gov.

SUPPLEMENTARY INFORMATION: The National Compensation Survey (NCS) is a nation-wide survey of private industry establishments and state and local governments that provides comprehensive measures of (1) employer costs for employee compensation, including wages and salaries, and benefits, (2) compensation trends, and (3) the incidence of employer-sponsored benefits among workers. The NCS also collects data and produces estimates on the provisions of selected employer-sponsored benefit plans. For additional substantive information about this ICR, see the related notice published in the Federal Register on July 16, 2025 (90 FRN 32029).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

Agency: DOL-BLS.

Title of Collection: National Compensation Survey.

OMB Control Number: 1220-0164.

Affected Public: Business or other for-profit; not-for-profit institutions; State, Local and Tribal Governments.

Total Estimated Number of Respondents: 17,194.

Total Estimated Number of Responses: 54,340.

Total Estimated Annual Time Burden: 38,398 hours.

Total Estimated Annual Other Costs Burden: $0.

(Authority: 44 U.S.C. 3507(a)(1)(D))

Signed on January 26, 2026.
Eric Molina,
Chief, Division of Management Systems, Branch of Policy Analysis.

[FR Doc. 2026-02155 Filed 2-2-26; 8:45 am]

BILLING CODE 4510-24-P